DEPARTMENT OF LABOR

Employment and Training Administration

[TA-W-55,774]

Capitol Records, Inc., Customer Fulfillment Operations, a Subsidiary of Emi Music, Including On-Site Leased Workers of Adecco, Jacksonville, IL; Notice of Revised Determination of Alternative Trade Adjustment Assistance on Reconsideration

By letter dated December 1, 2004, a petitioner requested administrative reconsideration regarding Alternative Trade Adjustment Assistance (ATAA). The certification for Trade Adjustment Assistance was signed on November 5, 2004. The notice of determination was published in the Federal Register on December 9, 2004 (69 FR 71429).

The initial investigation determined that subject worker group possess skills that are easily transferable.

The Department has received new information that indicates that the workers possess skills that are not easily transferable.

At least five percent of the workforce at the subject firm is at least fifty years of age. Competitive conditions within the industry are adverse.

Conclusion

After careful review of the additional facts obtained on reconsideration, I conclude that the requirements of Section 246 of the Trade Act of 1974, as amended, have been met for workers at the subject firm.

In accordance with the provisions of the Act, I make the following certification:

All workers of Capitol Records, Inc., Customer Fulfillment Operations, A Subsidiary of EMI Music, including on-site leased workers of Adecco, Jacksonville, Illinois, who became totally or partially separated from employment on or after September 29, 2003, through November 5, 2006, are eligible to apply for adjustment assistance under section 223 of the Trade Act of 1974, and are also eligible to apply for alternative trade adjustment assistance under section 246 of the Trade Act of 1974.

Signed in Washington, DC, this 30th day of December, 2004.
Elliott S. Kushner,
Certifying Officer, Division of Trade Adjustment Assistance.

[FR Doc. E5-201 Filed 1-19-05; 8:45 am]

BILLING CODE 4510-30-P